DEPARTMENT OF HOMELAND SECURITY

U.S. Citizenship and Immigration Services

[CIS No. 2763-24; DHS Docket No. USCIS-2013-0001]

RIN 1615-ZB72

Extension and Redesignation of Syria for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Syria for Temporary Protected Status (TPS) for 18 months, beginning on April 1, 2024, and ending on September 30, 2025. This extension allows existing TPS beneficiaries to retain TPS through September 30, 2025, if they otherwise continue to meet the eligibility requirements for TPS. Existing TPS beneficiaries who wish to extend their status through September 30, 2025, must re-register during the 60-day re-registration period described in this notice. The Secretary is also redesignating Syria for TPS. The redesignation of Syria allows additional Syrian nationals (and individuals having no nationality who last habitually resided in Syria) who have been continuously residing in the United States since January 25, 2024, to apply for TPS for the first time during the initial registration period described under the redesignation information in this notice. In addition to demonstrating continuous residence in the United States since January 25, 2024, and meeting other eligibility criteria, initial applicants for TPS under this designation must demonstrate that they have been continuously physically present in the United States since April 1, 2024, the effective date of this redesignation of Syria for TPS.

DATES: Extension and Redesignation of the Designation of Syria for TPS begins on April 1, 2024, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Syria's TPS designation by selecting “Syria” from the menu on the left side of the TPS web page.

• If you have additional questions about TPS, please visit uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You can also find more information at local USCIS offices after this notice is published.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Registration Information

Extension of Designation of Syria for TPS: The 18-month designation of Syria for TPS begins on April 1, 2024, and will remain in effect for 18 months, ending on September 30, 2025. The extension impacts existing beneficiaries of TPS.

Re-registration: The 60-day re-registration period for existing beneficiaries runs from January 29, 2024 through March 29, 2024. (Note: It is important for re-registrants to timely re-register during the re-registration period and not to wait until their Employment Authorization Documents (EADs) expire, as delaying reregistration could result in gaps in their employment authorization documentation.)

Redesignation of Syria for TPS: The 18-month redesignation of Syria for TPS begins on April 1, 2024, and will remain in effect for 18 months, ending on September 30, 2025. The redesignation impacts potential first-time applicants and others who do not currently have TPS.

First-time Registration: The initial registration period for new applicants under the Syria TPS redesignation begins on January 29, 2024 and will remain in effect through September 30, 2025.

Purpose of This Action (TPS)

Through this notice, DHS sets forth procedures necessary for nationals of Syria (or individuals having no nationality who last habitually resided in Syria) to (1) re-register for TPS and apply to renew their EAD with USCIS or (2) submit an initial registration application under the redesignation and apply for an EAD.

Re-registration is limited to individuals who have previously registered for TPS under the prior designation of Syria and whose applications have been granted. If you do not re-register properly within the 60-day re-registration period, USCIS may withdraw your TPS following appropriate procedures. See 8 CFR 244.14.

For individuals who have already been granted TPS under Syria's designation, the 60-day re-registration period runs January 29, 2024, through March 29, 2024. USCIS will issue new EADs with a September 30, 2025, expiration date to eligible Syrian TPS beneficiaries who timely re-register and apply for EADs. Given the time frames involved with processing TPS re-registration applications, DHS recognizes that not all re-registrants may receive a new EAD before their current EAD expires. Accordingly, through this Federal Register notice, DHS automatically extends through March 31, 2025, the validity of certain EADs previously issued under the TPS designation of Syria. As proof of continued employment authorization through March 31, 2025, TPS beneficiaries can show their EAD with the notation A-12 or C-19 under Category and a Card Expires date of March 31, 2024, September 30, 2022, or March 31, 2021. This notice explains how TPS beneficiaries and their employers may determine if an EAD is automatically extended and how this affects the Form I-9, Employment Eligibility Verification, E-Verify, and USCIS Systematic Alien Verification for Entitlements (SAVE) processes.

Individuals who have a Syria TPS application (Form I-821) or Application for Employment Authorization (Form I-765) that was still pending as of January 29, 2024, do not need to file either application again. If USCIS approves an individual's pending Form I-821, USCIS will grant the individual TPS through September 30, 2025. Similarly, if USCIS approves a pending TPS-related Form I-765, USCIS will issue the individual a new EAD that will be valid through the same date.

Under the redesignation, individuals who currently do not have TPS may submit an initial application during the initial registration period that runs from January 29, 2024 through the full length of the redesignation period ending September 30, 2025. In addition to demonstrating continuous residence in the United States since January 25, 2024, and meeting other eligibility criteria, initial applicants for TPS under this redesignation must demonstrate that they have been continuously physically present in the United States since April 1, 2024,¹ the effective date of this redesignation of Syria, before USCIS may grant them TPS. DHS estimates that approximately 2,500 individuals may become newly eligible for TPS under the redesignation of Syria.

¹ The “continuous physical presence” date is the effective date of the most recent TPS designation of the country, which is either the publication date of the designation announcement in the Federal Register or a later date established by the Secretary. The “continuous residence” date is any date established by the Secretary when a country is designated (or sometimes redesignated) for TPS. See INA sec. 244(b)(2)(A) (effective date of designation); 244(c)(1)(A)(i-ii) (continuous residence and continuous physical presence date requirements); 8 U.S.C. 1254a(b)(2)(A); 1254a(c)(1)(A)(i-ii).

What Is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date their TPS terminates.

When was Syria designated for TPS?

Syria was initially designated for TPS on March 29, 2012, on the basis of extraordinary and temporary conditions in Syria that prevented nationals of Syria from returning in safety.² Following the initial designation, the Secretary extended and redesignated Syria for TPS three times based on ongoing armed conflict and extraordinary and temporary conditions: (1) from October 1, 2013, to March 31, 2015; ³ (2) from April 1, 2015, to September 30, 2016; ⁴ and (3) from October 1, 2016, to March 31, 2018.⁵ Thereafter, the Secretary extended TPS for Syria from April 1, 2018, to September 30, 2019,⁶ and again on October 1, 2019, to March 31, 2021,⁷ based on ongoing armed conflict and extraordinary and temporary conditions. Most recently, the Secretary extended and redesignated TPS for Syria based on ongoing armed conflict and extraordinary and temporary conditions from March 31, 2021, to September 30, 2022,⁸ and from October 1, 2022, to March 31, 2024.⁹

² See Designation of Syrian Arab Republic for Temporary Protected Status, 77 FR 19026 (Mar. 29, 2012).

³ See Extension and Redesignation of Syria for Temporary Protected Status, 78 FR 36223 (June 17, 2013).

⁴ See Extension and Redesignation of the Syrian Arab Republic for Temporary Protected Status, 80 FR 245 (Jan. 5, 2015).

⁵ See Extension and Redesignation of Syria for Temporary Protected Status, 81 FR 50533 (Aug. 1, 2016).

⁶ See Extension of the Designation of Syria for Temporary Protected Status, 83 FR 9329 (Mar. 5, 2018).

⁷ See Extension of the Designation of Syria for Temporary Protected Status, 84 FR 49751 (Sept. 23, 2019).

⁸ See Extension and Redesignation of Syria for Temporary Protected Status, 86 FR 14946 (Mar. 19, 2021).

⁹ See Extension and Redesignation of Syria for Temporary Protected Status, 87 FR 46982 (Aug. 1, 2022).

What authority does the Secretary have to extend the designation of Syria for TPS?

Section 244(b)(1) of the INA, 8 U.S.C. 1254a(b)(1), authorizes the Secretary, after consultation with appropriate agencies of the U.S. Government, to designate a foreign state (or part thereof) for TPS if the Secretary determines that certain country conditions exist.¹⁰ The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

¹⁰ INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Syria for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).¹¹

¹¹ The extension and redesignation of TPS for Syria is one of several instances in which the Secretary and, before the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Syria will be January 25, 2024. Initial applicants for TPS under this redesignation must also show they have been “continuously physically present” in the United States since April 1, 2024, which is the effective date of the Secretary's redesignation of Syria. See INA sec. 244(c)(1)(A)(i), 8 U.S.C. 1254a(c)(1)(A)(i). For each initial TPS application filed under the redesignation, USCIS cannot make the final determination of whether the applicant has met the “continuous physical presence” requirement until April 1, 2024, the effective date of this redesignation for Syria. USCIS, however, will issue employment authorization documentation, as appropriate, during the registration period in accordance with 8 CFR 244.5(b).

Why is the Secretary extending the TPS designation for Syria and simultaneously redesignating Syria for TPS through September 30, 2025?

DHS has reviewed country conditions in Syria. Based on the review, including input received from DOS and other U.S. Government agencies, the Secretary has determined that an 18-month TPS extension is warranted because the ongoing armed conflict and extraordinary and temporary conditions supporting Syria's TPS designation remain. The Secretary has further determined that redesignating Syria for TPS under INA section 244(b)(3)(C), 8 U.S.C. 1254a(b)(3)(C) is warranted and is changing the continuous residence and continuous physical presence dates that applicants must meet to be eligible for TPS.

Overview

The ongoing civil war in Syria is in its thirteenth year and has involved large-scale destruction of infrastructure, widespread civilian casualties, and human rights abuses and violations. The humanitarian consequences are dire, including mass displacement of civilians, high levels of food insecurity, and limited access to healthcare and clean water. These impacts have been compounded by the February 6, 2023 earthquake, which resulted in the further destruction of infrastructure and has contributed to the further breakdown of the economy and strained an already overburdened healthcare system.12 13

¹² International Blue Crescent, Kahramanmaraş Earthquakes Situation Report, Apr. 6, 2023, 6, available at https://reliefweb.int/report/turkiye/devastating-earthquakes-southern-turkiye-and-northern-syria-april-6th-2023-situation-report-20-entr (last visited Oct. 10, 2023).

¹³ The World Bank, Syria Earthquake 2023 Rapid Damage and Needs Assessment (RDNA), Mar. 2023, 48, available at https://reliefweb.int/report/syrian-arab-republic/syria-earthquake-2023-rapid-damage-and-needs-assessment-rdna-enar (last visited Nov. 9, 2023).

Armed Conflict and Security Situation

The armed conflict in Syria continues to include numerous local and international actors, such as the Syrian regime, foreign states, opposition groups, and terrorist groups, like ISIS.14 15 Syrian civilians are suffering with 61 percent of Syria's pre-war population displaced, and Syria remains the third least peaceful country in the world according to the Global Peace Index (GPI).¹⁶ The United Nations High Commissioner for Refugees (UNHCR) reports 5,183,140 Syrian refugees in neighboring countries,¹⁷ and 6.8 million people internally displaced (IDPs) within Syria—the highest in the world.¹⁸

¹⁴ See U.S. Dep't of State, 2022 Country Report on Human Rights Practices: Syria, Mar. 20, 2023, available at https://www.state.gov/reports/2022-country-reports-on-human-rights-practices/syria/#:~:text=As%20of%20December%2C%20the%20SNHR,Directorate%2C%20Air%20Force%20Intelligence%20Directorate%2C (last visited Oct. 5, 2023).

¹⁵ U.N. Gen. Assembly Human Rights Council, Report of the Independent International Commission of Inquiry on the Syrian Arab Republic, Aug. 14, 2023, available at https://www.ohchr.org/en/hr-bodies/hrc/iici-syria/report-coi-syria-september2023 (last visited Nov. 27, 2023).

¹⁶ Inst. for Economics and Peace, Global Peace Index 2023: Measuring Peace in a Complex World, June 2023, 28, available at http://visionofhumanity.org/resources (last visited Oct. 26, 2023).

¹⁷ UNHCR, Situation Syria Regional Refugee Response, lasted updated Nov. 30, 2023, available at https://data2.unhcr.org/en/situations/syria (last visited Dec. 13, 2023).

¹⁸ UNHCR, Syria: UNHCR Operational Update, September 2023, Oct. 18, 2023, 1, available at https://reliefweb.int/report/syrian-arab-republic/syria-unhcr-operational-update-september-2023-enar (last visited Oct. 27, 2023).

The conflict and its levels of violence are regularly in flux. Ongoing hostilities in several parts of the country include “artillery shelling, air strikes and land mines, [and] continue to threaten the lives of civilians and hamper humanitarian activities.” ¹⁹ In January 2023, regime-controlled areas experienced “an alarming escalation of violence, worsening living conditions, tightening security grip and ongoing arbitrary arrests.” ²⁰ On October 5, 2023, northern Syria experienced renewed hostilities with reports of multiple attacks by regime-forces that killed civilians and damaged vital civilian infrastructure across the region.²¹ Since October 5, 2023, parties to the conflict have engaged in continuous shelling and airstrikes, which have struck more than 1,400 locations, including frontline and residential areas, in Idlib and western Aleppo.²² As of October 13, at least 53 people in affected areas have been killed, including 11 women and 15 children, and 303 others injured as reported by local health authorities since the start of the incidents on October 5.²³

¹⁹ UNOCHA, Humanitarian Needs Overview: Syrian Arab Republic, 12 (Dec. 22, 2022), available at hno_2023-rev-1.12_1.pdf (humanitarianresponse.info) (last visited Oct. 5, 2023).

²⁰ The Syrian Observatory for Human Rights, Regime-controlled areas in January 2023 Nearly 190 fatalities in acts of violence . . . 12 assassinations and attacks in three provinces . . . escalating living crises, Feb. 9, 2023, available at https://www.syriahr.com/en/288096/ (last visited Oct. 6, 2023).

²¹ UNOCHA, Joint Statement by the United Nations Resident Coordinator and Humanitarian Coordinator for Syria, Mr. Adam Abdelmoula, and the Regional Humanitarian Coordinator for the Syria Crisis, Mr. Muhannad Hadi, on the renewed hostilities in northern Syria, Oct. 6, 2023, available at https://reliefweb.int/report/syrian-arab-republic/joint-statement-united-nations-resident-coordinator-and-humanitarian-coordinator-syria-mr-adam-abdelmoula-and-regional-humanitarian-coordinator-syria-crisis-mr-muhannad-hadi-renewed-hostilities-northern-syria-enar (last visited Oct. 6, 2023).

²² UNOCHA, North-west Syria: Escalation of Hostilities—Flash Update No. 3, Oct. 13, 2023, available at https://reliefweb.int/report/syrian-arab-republic/north-west-syria-escalation-hostilities-flash-update-no3-13-october-2023-enar (last visited Oct. 26, 2023).

²³ Id.

Since the conflict began, civilian casualty counts have varied among media sources and human rights groups, in part due to the large number of missing and forcibly disappeared Syrians. Human rights groups estimate more than 550,000 people have been killed since the start of the conflict.²⁴ Armed actors, including those of the Syrian regime and its Russian allies, continue to strike civilians and civilian facilities.²⁵ The Syrian Network for Human Rights (SNHR) reported that ground attacks and airstrikes “have caused the destruction of homes, schools, hospitals, shops and other structures, and that there are reasonable grounds to believe that the war crime of attacking civilians has been committed in many cases.” ²⁶ In the first half of 2023, through June, SNHR documented that parties to the conflict and controlling forces in Syria killed 501 civilians, including 71 children and 42 women.²⁷

²⁴ U.S. Dep't of State, 2022 Country Report on Human Rights Practices: Syria, Mar. 20, 2023, available at https://www.state.gov/reports/2022-country-reports-on-human-rights-practices/syria/#:~:text=As%20of%20December%2C%20the%20SNHR,Directorate%2C%20Air%20Force%20Intelligence%20Directorate%2C (last visited Dec. 7, 2023).

²⁵ Syrian Network for Human Rights, Most Notable Human Rights Violations in Syria in May 2023, June 5, 2023, available at https://reliefweb.int/report/syrian-arab-republic/most-notable-human-rights-violations-syria-may-2023 (last visited Oct. 10, 2023).

²⁶ Id.

²⁷ Syrian Network for Human Rights, 501 Civilians, Including 71 Children, 42 Woman, and 20 Individuals Who Died due to Torture Documented Killed in Syria, in the First Half of 2023, July 2, 2023, 7, available at https://reliefweb.int/report/syrian-arab-republic/501-civilians-including-71-children-42-woman-and-20-individuals-who-died-due-torture-documented-killed-syria-first-half-2023 (last visited Oct. 5, 2023).

Human Rights Abuses and Civilian Deaths

The Syrian regime and other armed actors continue to commit human rights abuses. There are documented reports of unjust killings, arbitrary arrests, enforced disappearances, forced displacements, seizures of land and properties, and rampant security instability that have “provided a ripe environment for many assassinations and bombings.” ²⁸ During the January 2023 escalation of violence in regime-controlled areas, SNHR reported that 55 civilians died, at least 42 civilians were arbitrarily arrested by regime forces and intelligence services, and 14 civilians were kidnapped.²⁹ SNHR reported that, in the first half of 2023, 20 individuals, including civilians, died due to torture and that the Syrian regime was reportedly responsible for the deaths of 30 percent of these individuals.³⁰

²⁸ Syrian Network for Human Rights, 12th Annual Report—Most notable violations in 2022, 6-7, Jan. 24, 2023, available at https://snhr.org/blog/2023/01/24/snhrs-12th-annual-report-most-notable-human-rights-violations-in-syria-in-2022/ (last visited Oct. 5, 2023).

²⁹ The Syrian Observatory for Human Rights, Regime-controlled areas in January 2023 Nearly 190 fatalities in acts of violence . . . 12 assassinations and attacks in three provinces . . . escalating living crises, Feb. 9, 2023, available at https://www.syriahr.com/en/288096/ (last visited Oct. 6, 2023).

³⁰ Syrian Network for Human Rights, 501 Civilians, Including 71 Children, 42 Woman, and 20 Individuals Who Died due to Torture Documented Killed in Syria, in the First Half of 2023, July 2, 2023, 13, available at https://reliefweb.int/report/syrian-arab-republic/501-civilians-including-71-children-42-woman-and-20-individuals-who-died-due-torture-documented-killed-syria-first-half-2023 (last visited Oct. 5, 2023).

Humanitarian and Economic Situation

Since 2022, the number of people in Syria in need of humanitarian assistance has increased by five percent to 15.3 million people, which is over two thirds of the population.³¹ Of those 15.3 million people, there are 7 million children currently in need of humanitarian assistance.³² According to the European Union's Directorate-General for Civil Protection and Humanitarian Aid Operations, 85 percent of households cannot meet their basic needs, over half the population lacks a stable water source, and more than 12 million people are food insecure.³³

³¹ UNHCR, Syria: UNHCR Operational Update, September 2023, Oct. 18, 2023, available at https://reliefweb.int/report/syrian-arab-republic/syria-unhcr-operational-update-september-2023-enar (last visited Oct. 27, 2023).

³² UNICEF, Humanitarian Action for Children 2023—Syria, June 2023, available at https://www.unicef.org/media/143511/file/2023-HAC-Syrian-Arab-Republic-revised-June.pdf (last visited Nov. 27, 2023).

³³ European Commission, European Civil Protection and Humanitarian Aid Operations, Syria, last updated Nov. 24, 2023, available at https://civil-protection-humanitarian-aid.ec.europa.eu/where/middle-east-and-northern-africa/syria_en (last visited Oct. 6, 2023).

Food insecurity is of particular concern as the Syrian economy has been rapidly deteriorating.³⁴ Syria is experiencing hyperinflation with a record depreciation of the Syrian pound, which has led to substantial food and fuel price hikes.35 36 About, 12.1 million Syrians (almost 60 percent of the population) are considered food insecure, with an additional three million more Syrians at risk of food insecurity.³⁷ After years of conflict, Syria is now one of six countries “with the highest food insecurity in the world.” ³⁸ Over the course of the conflict “wheat production has declined by 75 per cent due to damaged infrastructure, the high cost of fuel, and drought-like conditions.” ³⁹

³⁴ World Food Programme, Syria—Market Price Watch Bulletin July 2023, Aug. 23, 2023, available at https://reliefweb.int/report/syrian-arab-republic/syria-market-price-watch-bulletin-july-2023 (last visited Sept. 27, 2023).

³⁵ Reuters, Syria slashes gasoline subsidy, boosts public-sector salaries, Aug. 16, 2023, available at https://www.reuters.com/world/middle-east/syria-slashes-gasoline-subsidy-boosts-public-sector-salaries-2023-08-16/ (last visited Oct. 6, 2023).

³⁶ BBC News, Syria doubles public-sector pay and cuts subsidies as economy sinks, Aug. 16, 2023, available at https://www.bbc.com/news/world-middle-east-66526132 (last visited Oct. 6, 2023).

³⁷ UN News, More than half of all Syrians going hungry: WFP, Mar. 14, 2023, available at https://news.un.org/en/story/2023/03/1134567 (last visited Oct. 6, 2023).

³⁸ Id.

³⁹ Id.

The February 6, 2023 earthquake and subsequent aftershock that hit southern Turkey near the Syrian border also contributed to the worsening humanitarian situation and economic deterioration in Syria.⁴⁰ According to the International Blue Crescent Relief and Development Foundation, the earthquake killed 8,476 people in Syria.⁴¹ In addition to the loss of life, the earthquake has also had devastating effects on Syria's economy, infrastructure, and health sector.⁴² Prior to the earthquake, 90 percent of Syrians lived in poverty.⁴³ The effect of the earthquake in the northern border region of Syria resulted in further economic hardships. An estimated 170,000 employees lost their jobs because of the earthquake and approximately 35,000 micro, small, and medium sized businesses were damaged.⁴⁴ As a result, Syria's temporary loss of employment has been calculated to be a loss of labor income equal to at least 5.7 million dollars per month.⁴⁵ The United Nations estimates that Syria needs almost 15 billion dollars to recover from the earthquakes.⁴⁶

⁴⁰ Erol Yayboke, Shattered Relief: A 7.8-Magnitude Earthquake Strikes Turkey and Syria, CSIS, Feb. 7, 2023, available at https://www.csis.org/analysis/shattered-relief-78-magnitude-earthquake-strikes-turkey-and-syria (last visited Oct. 10, 2023).

⁴¹ International Blue Crescent, Kahramanmaraş Earthquakes Situation Report, Apr. 6, 2023, 2, available at https://reliefweb.int/report/turkiye/devastating-earthquakes-southern-turkiye-and-northern-syria-april-6th-2023-situation-report-20-entr (last visited Oct. 10, 2023).

⁴² Id.

⁴³ Middle East Monitor, UN Chief says 90% of Syrians live below poverty line, Jan. 14, 2022, available at https://www.middleeastmonitor.com/20220114-un-chief-says-90-of-syrians-live-below-poverty-line/ (last visited Oct. 10, 2023).

⁴⁴ International Blue Crescent, Kahramanmaraş Earthquakes Situation Report, Apr. 6, 2023, 6, available at https://reliefweb.int/report/turkiye/devastating-earthquakes-southern-turkiye-and-northern-syria-april-6th-2023-situation-report-20-entr (last visited Oct. 10, 2023).

⁴⁵ Id.

⁴⁶ UN News, Almost $15 billion needed for earthquake recovery in Syria, May 8, 2023, available at https://news.un.org/en/story/2023/05/1136452 (last visited Oct. 6, 2023).

Healthcare Needs and Access to Water

Over 15.3 million people in Syria need healthcare assistance, which is an increase of 3.2 million people from 2022.⁴⁷ The World Health Organization reports that 41 percent of public hospitals and 43 percent of primary health care facilities are either partially functioning or not functioning at all.⁴⁸ Further, up to 50 percent of healthcare workers have fled Syria since the start of the conflict.⁴⁹ In January 2023, sources in regime-controlled areas reported a lack of medicine in pharmacies as well as a significant increase in the prices of medicine for heart disease, epilepsy, diabetes, cancer, and the flu.⁵⁰

⁴⁷ World Health Organization, Health sector needs HNO 2023, Dec. 4, 2022, available at https://reliefweb.int/report/syrian-arab-republic/health-sector-needs-hno-2023 (last visited Oct. 12, 2023).

⁴⁸ Id.

⁴⁹ World Health Organization, Syrian Arab Republic: Public Health Situation Analysis (PHSA) Long-form, Aug. 18, 2022, 2, available at https://reliefweb.int/report/syrian-arab-republic/syrian-arab-republic-public-health-situation-analysis-phsa-long-form-last-update-18-august-2022 (last visited Oct. 12, 2023).

⁵⁰ The Syrian Observatory for Human Rights, Regime-controlled areas in January 2023 Nearly 190 fatalities in acts of violence . . . 12 assassinations and attacks in three provinces . . . escalating living crises, Feb. 9, 2023, available at https://www.syriahr.com/en/288096/ (last visited Oct. 6, 2023).

Access to clean water outside of northwest Syria continues to be a serious situation for many Syrians as 52 percent of Syrians lack access to clean water and must turn to unsafe alternatives, such as polluted rivers or unregulated private companies providing unclean water.⁵¹ Before the war, 92 percent of Syrians had consistent access to clean water but over the last few years, Syria's water infrastructure has deteriorated quickly, whether because of the conflict, climate change, Syria's energy crisis, and/or conflict actors limiting access to water as a political pressure tactic.⁵² Without clean water, Syrians must forego basic hygiene and clean drinking water, which leaves Syrians at risk for infectious waterborne diseases.⁵³

⁵¹ The Century Foundation, Cholera in the Time of Assad: How Syria's Water Crisis Caused an Avoidable Outbreak, Jan. 24, 2023, available at https://tcf.org/content/report/cholera-in-the-time-of-assad-how-syrias-water-crisis-caused-an-avoidable-outbreak/#:~:text=According%20to%20UN%20data%20collected,over%20the%20past%20few%20years. (last visited Oct. 10, 2023).

⁵² Id.

⁵³ Id.

In February 2023, the earthquake exacerbated the health care system in northwest Syria, the area that saw most of the damage.⁵⁴ The World Bank estimates that the total effect of both the damage and loss due to the earthquake on Syria's health sector is 300.4 million dollars.⁵⁵ Northwest Syria's earthquake-damaged infrastructure includes water, sanitation, and hygiene, and healthcare facilities, raising health concerns related to contaminated water and an increased risk of waterborne illness.56 57

⁵⁴ The World Bank, Syria Earthquake 2023 Rapid Damage and Needs Assessment (RDNA), Mar. 2023, 48, available at https://reliefweb.int/report/syrian-arab-republic/syria-earthquake-2023-rapid-damage-and-needs-assessment-rdna-enar (last visited Nov. 9, 2023).

⁵⁵ Id.

⁵⁶ Maia C Tarnas, Naser Almhawish, Nabil Karah, Richard Sullivan, & Aula Abbara, Communicable diseases in northwest Syria in the context of protracted armed conflict and earthquakes, The Lancet Infectious Diseases, July 2023, ISSN 1473-3099, available at https://doi.org/10.1016/S1473-3099(23)00201-3 (last visited Oct. 6, 2023).

⁵⁷ The World Bank, Syria Earthquake 2023 Rapid Damage and Needs Assessment (RDNA), Mar. 2023, 49, available at https://reliefweb.int/report/syrian-arab-republic/syria-earthquake-2023-rapid-damage-and-needs-assessment-rdna-enar (last visited Oct. 10, 2023).

In summary, over a decade after the uprising that sparked the war, the Syrian conflict remains ongoing and detrimental impacts on the country continue. Armed actors continue to kill civilians and destroy vital civilian infrastructure, the economy is rapidly deteriorating, and Syrians cannot afford their basic needs, such as food and healthcare. Further, the lack of access to clean water has created a serious problem for those in most of the country. The February 2023 earthquake further complicated these issues.

Based on this review and after consultation with appropriate U.S. Government agencies, the Secretary has determined that:

• The conditions supporting Syria's designation for TPS continue to be met. See INA sec. 244(b)(3)(A) and (C), 8 U.S.C. 1254a(b)(3)(A) and (C).

• There continues to be an ongoing armed conflict in Syria and, due to such conflict, requiring the return to Syria of Syrian nationals (or individuals having no nationality who last habitually resided in Syria) would pose a serious threat to their personal safety. See INA sec. 244(b)(1)(A), 8 U.S.C. 1254a(b)(1)(A).

• There continue to be extraordinary and temporary conditions in Syria that prevent Syrian nationals (or individuals having no nationality who last habitually resided in Syria) from returning to Syria in safety, and it is not contrary to the national interest of the United States to permit Syrian TPS beneficiaries to remain in the United States temporarily. See INA sec. 244(b)(1)(C), 8 U.S.C. 1254a(b)(1)(C).

• The designation of Syria for TPS should be extended for an 18-month period, beginning on April 1, 2024, and ending on September 30, 2025. See INA sec. 244(b)(3)(C), 8 U.S.C. 1254a(b)(3)(C).

• Due to the conditions described above, Syria should be simultaneously extended and redesignated for TPS beginning on April 1, 2024, and ending on September 30, 2025. See INA sec. 244(b)(1)(A) and (C) and (b)(2), 8 U.S.C. 1254a(b)(1)(A) and (C) and (b)(2).

• For the redesignation, the Secretary has determined that TPS applicants must demonstrate that they have continuously resided in the United States since January 25, 2024.

• Initial TPS applicants under the redesignation must demonstrate that they have been continuously physically present in the United States since April 1, 2024, the effective date of the redesignation of Syria for TPS.

• There are approximately 6,200 current Syria TPS beneficiaries who are eligible to re-register for TPS under the extension.

• It is estimated that approximately 2,500 additional individuals may be eligible for TPS under the redesignation of Syria. This population includes Syrian nationals in the United States in nonimmigrant status or without immigration status.

Notice of the Designation of Syria for TPS

By the authority vested in me as Secretary under INA section 244, 8 U.S.C. 1254a, I have determined, after consultation with the appropriate U.S. Government agencies, the statutory conditions supporting Syria's designation for TPS on the basis of ongoing armed conflict and extraordinary and temporary conditions are met and it is not contrary to the national interest of the United States to allow Syrian TPS beneficiaries to remain in the United States temporarily. See INA sec. 244(b)(1)(A), (C); 8 U.S.C. 1254a(b)(1)(A), (C). On the basis of this determination, I am simultaneously extending the existing designation of Syria for TPS for 18 months, beginning on April 1, 2024, and ending on September 30, 2025, and redesignating Syria for TPS for the same 18-month period. See INA sec. 244(b)(1)(A), (C), and (b)(2); 8 U.S.C. 1254a(b)(1)(A), (C), and (b)(2).

Alejandro N. Mayorkas
Secretary, U.S. Department of Homeland Security.

Eligibility and Employment Authorization for TPS

Required Application Forms and Application Fees To Register or Re-Register for TPS

To register or re-register for TPS based on the designation of Syria, you must submit a Form I-821, Application for Temporary Protected Status. If you are submitting an initial TPS application, you must pay the application fee for Form I-821 (or request a fee waiver, which you may submit on Form I-912, Request for Fee Waiver). If you are filing an application to re-register for TPS, you do not need to pay the application fee. Whether you are registering as an initial applicant or re-registering, you may be required to pay the biometric services fee. If you can demonstrate an inability to pay the biometric services fee, you may request to have the fee waived. Please see additional information under the “Biometric Services Fee” section of this notice.

TPS beneficiaries are eligible for an Employment Authorization Document (EAD), which proves their authorization to work in the United States. You are not required to submit Form I-765, Application for Employment Authorization, or have an EAD to be granted TPS, but see below for more information if you want an EAD to use as proof that you can work in the United States.

Individuals who have a Syria TPS application (Form I-821) that was still pending as of January 29, 2024, do not need to file the application again. If USCIS approves an individual's Form I-821, USCIS will grant the individual TPS through September 30, 2025.

For more information on the application forms and fees for TPS, please visit the USCIS TPS web page at https://www.uscis.gov/tps. Fees for the Form I-821, the Form I-765, and biometric services are also described in 8 CFR 103.7(b)(1) (Oct. 1, 2020). The instructions for Form I-821 and Form I-765 also provide more information on requirements and fees for both initial TPS applicants and existing TPS beneficiaries who are re-registering.

How can TPS beneficiaries obtain an employment authorization document (EAD)?

Everyone must provide their employer with documentation showing that they have the legal right to work in the United States. TPS beneficiaries are eligible to obtain an EAD, which proves their legal right to work. If you want to obtain an EAD, you must file Form I-765 and pay the Form I-765 fee (or request a fee waiver, which you may submit on Form I-912, Request for Fee Waiver). TPS applicants may file this form with their TPS application, or separately later, if their TPS application is still pending or has been approved. Beneficiaries with a Syria TPS-related Form I-765 that was still pending as of January 29, 2024 do not need to file the application again. If USCIS approves a pending TPS-related Form I-765, USCIS will issue the individual a new EAD that will be valid through September 30, 2025.

Refiling An Initial TPS Registration Application After Receiving a Denial of a Fee Waiver Request

If USCIS denies your fee waiver request, you can resubmit your TPS application. The fee waiver denial notice will contain specific instructions about resubmitting your application.

Filing Information

You may file Form I-821 and related requests for EADs online or by mail. However, if you request a fee waiver, you must submit your application by mail. When filing a TPS application, applicants may request an EAD by submitting a completed Form I-765 with their Form I-821.

Online filing: Form I-821 and Form I-765 are available for concurrent filing online.⁵⁸ To file these forms online, you must first create a USCIS online account.⁵⁹

⁵⁸ Find information about online filing at “Forms Available to File Online,” https://www.uscis.gov/file-online/forms-available-to-file-online.

⁵⁹ https://myaccount.uscis.gov/users/sign_up.

Mail filing: Mail your completed Form I-821, Application for Temporary Protected Status; Form I-765, Application for Employment Authorization, if applicable; Form I-912, Request for Fee Waiver (if applicable); and supporting documentation to the proper address in Table 1-Mailing Addresses.

Table 1—Mailing Addresses
If you send your paper application via: | Then, mail your application to:
U.S. Postal Service (USPS) | USCIS, Attn: TPS Syria, P.O. Box 6943, Chicago, IL 60680-6943.
FedEx, UPS, or DHL deliveries | USCIS, Attn: TPS Syria (Box 6943), 131 S Dearborn 3rd Floor, Chicago, IL 60603-5517.

If you were granted TPS by an immigration judge or the Board of Immigration Appeals (BIA) and you wish to request an EAD, please file online or mail your Form I-765 to the appropriate address in Table 1. If you file online, please include the fee. If you file by mail, please include the fee or fee waiver request. When you request an EAD based on an immigration judge or BIA grant of TPS, please include with your application a copy of the order from the immigration judge or BIA granting you TPS. This will help us verify your grant of TPS and process your application.

Supporting Documents

The filing instructions on Form I-821 list all the documents needed to establish eligibility for TPS. You may also find information on the acceptable documentation and other requirements for applying (also called, registering) for TPS on the USCIS website at https://www.uscis.gov/tps under “Syria.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing Form I-131, you must:

• Select Item Number 1.d. in Part 2 on the Form I-131; and

• Submit the fee for Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): You must include a copy of the receipt notice (Form I-797 or I-797C) showing we accepted or approved your Form I-821 | USCIS Attn: I-131 TPS, P.O. Box 660167, Dallas, TX 75266-0867.
Filing Form I-131 based on a pending or approved Form I-821, and you are using FedEx, UPS, or DHL: You must include a copy of the receipt notice (Form I-797 or I-797C) showing we accepted or approved your Form I-821 | USCIS Attn: I-131 TPS, 2501 S State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. USCIS may require you to visit an Application Support Center to submit biometrics. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through March 31, 2025, through this Federal Register notice?

Yes. Regardless of your country of birth, if you currently have a Syria TPS-based EAD with the notation A-12 or C-19 under Category and a Card Expires date of March 31, 2024, September 30, 2022, or March 31, 2021, this Federal Register notice automatically extends your EAD through March 31, 2025. Although this Federal Register notice automatically extends your EAD through March 31, 2025, you must timely re-register for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information. If your EAD states A-12 or C-19 under Category and has a Card Expires date of March 31, 2024, September 30, 2022, or March 31, 2021, this Federal Register notice extends it automatically, and you may choose to present your EAD to your employer as proof of identity and employment eligibility for Form I-9 through March 31, 2025, unless your TPS has been withdrawn or your request for TPS has been denied. Your country of birth noted on the EAD does not have to reflect the TPS-designated country of Syria for you to be eligible for this extension.

What documentation may I present to my employer for Form I-9 if I am already employed but my current TPS-related EAD is set to expire?

Even though we have automatically extended your EAD, your employer is required by law to ask you about your continued employment authorization. Your employer may need to re-examine your automatically extended EAD to check the Card Expires date and Category code if your employer did not keep a copy of your EAD when you initially presented it. Once your employer has reviewed the Card Expires date and Category code, they should update the EAD expiration date in Section 2 of Form I-9. See the section “What updates should my current employer make to Form I-9 if my EAD has been automatically extended?” of this Federal Register notice for more information. You may show this Federal Register notice to your employer to explain what to do for Form I-9 and to show that USCIS has automatically extended your EAD through March 31, 2025, but you are not required to do so. The last day of the automatic EAD extension is March 31, 2025. Before you start work on April 1, 2025, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, even if you have an EAD or work authorization based on another immigration status. If you want to obtain a new TPS-based EAD valid through September 30, 2025, then you must file Form I-765, Application for Employment Authorization, and pay the associated fee (unless USCIS grants your fee waiver request).

Can my employer require that I provide any other documentation such as evidence of my status, proof of my Syrian citizenship, or a Form I-797C showing that I registered for TPS for Form I-9 completion?

No. When completing Form I-9, employers must accept any documentation you choose to present from the Form I-9 Lists of Acceptable Documents that reasonably appears to be genuine and that relates to you, or an acceptable List A, List B, or List C receipt. Employers may not request other documentation, such as proof of Syrian citizenship or proof of registration for TPS when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

When using an automatically extended EAD to complete Form I-9 for a new job before April 1, 2025:

1. For Section 1, you should:

a. Check “A noncitizen authorized to work until” and enter March 31, 2025, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A-12 or C-19 and has a Card Expires date of March 31, 2024, September 30, 2022 or March 31, 2021;

b. Write in the document title;

c. Enter the issuing authority;

d. Provide the document number; and

e. Write March 31, 2025, as the expiration date.

Before the start of work on April 1, 2025, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A-12 or C-19 and has a Card Expires date of March 31, 2024, September 30, 2022, or March 31, 2021. Your employer may not rely on the country of birth listed on the card to determine whether you are eligible for this extension.

If your employer determines that USCIS has automatically extended your EAD, your employer should update Section 2 of your previously completed Form I-9 as follows:

1. Write EAD EXT and March 31, 2025, as the last day of the automatic extension in the Additional Information field; and

2. Initial and date the correction.

Note: This is not considered a reverification. Employers do not reverify the employee until either the automatic extension has ended, or the employee presents a new document to show continued employment authorization, whichever is sooner. By April 1, 2025, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter March 31, 2025, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on April 1, 2025, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov or get more information online at www.justice.gov/ier.

Note to Employees

For general questions about the employment eligibility verification process, employees may call USCIS at 888-897-7781 (TTY 877-875-6028) or email USCIS at I-9Central@uscis.dhs.gov. USCIS accepts calls in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action, reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A-12 or C-19, even if your country of birth noted on the EAD does not reflect the TPS-designated country of Syria;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept. Some state and local government agencies use the SAVE program to confirm the current immigration status of applicants for public benefits.

While SAVE can verify that an individual has TPS, each agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save/save-resources, has detailed information on how to make corrections or update your immigration record, make an appointment, or submit a written request to correct records.

[FR Doc. 2024-01764 Filed 1-26-24; 8:45 am]

BILLING CODE 9111-97-P